INTERNATIONAL TRADE COMMISSION

[Investigation No. 701-TA-661 (Final)]

Utility Scale Wind Towers From Malaysia

Determination

On the basis of the record ¹ developed in the subject investigation, the United States International Trade Commission (“Commission”) determines, pursuant to the Tariff Act of 1930 (“the Act”), that an industry in the United States is materially injured by reason of imports of utility scale wind towers from Malaysia, provided for in subheadings 7308.20.00 and 8502.31.00 of the Harmonized Tariff Schedule of the United States, that have been found by the U.S. Department of Commerce (“Commerce”) to be subsidized by the government of Malaysia.²

¹ The record is defined in § 207.2(f) of the Commission's Rules of Practice and Procedure (19 CFR 207.2(f)).

² 86 FR 30593 (June 9, 2021).

Background

The Commission instituted this investigation effective September 30, 2020, following receipt of petitions filed with the Commission and Commerce by the Wind Tower Trade Coalition (Arcosa Wind Towers Inc., Dallas, Texas; and Broadwind Towers, Inc., Manitowoc, Wisconsin). The Commission scheduled the final phase of the investigation following notification of a preliminary determination by Commerce that imports of utility scale wind towers from Malaysia were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of April 16, 2021 (86 FR 20197). Counsel for the Wind Tower Trade Coalition withdrew its previously filed request to appear at the hearing, after no other parties submitted a request to appear, and indicated a willingness to submit written responses to any Commission questions in lieu of a hearing. Consequently, since no party to the investigation requested a hearing, the Commission canceled its hearing in connection with this investigation (86 FR 31730). Parties to this investigation responded to written questions posed by the Commission in their posthearing briefs.

The Commission made this determination pursuant to § 705(b) of the Act (19 U.S.C. 1671d(b)). It completed and filed its determination in this investigation on July 26, 2021. The views of the Commission are contained in USITC Publication 5215, July 2021, entitled Utility Scale Wind Towers from Malaysia: Investigation No. 701-TA-661 (Final).

By order of the Commission.
Issued: July 26, 2021.
Lisa Barton,
Secretary to the Commission.

[FR Doc. 2021-16242 Filed 7-29-21; 8:45 am]

BILLING CODE 7020-02-P